NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 6, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Office of the Secretary (N1-AFU-02-1, 2 items, 1 temporary item). Electronic copies created using electronic mail and word processing of appointment books, daily schedules, and telephone logs of the Secretary of the Air Force, November 1997 to January 2001. Recordkeeping copies of these files are proposed for permanent retention.

2. Department of Defense, Joint Staff and Combatant Commands (N1-218-00-6, 132 items, 59 temporary items). Facilitative records relating to operations, planning, and command and control matters accumulated by the Joint Staff and combatant commands. Included are reports, correspondence, summaries, case files, background papers, drafts, transcripts, publications, minutes of meetings, and other files pertaining to such matters as military readiness, special and regular operations, exercises, plans, codewords, crisis incidents, reconnaissance, surveillance, war games, alerts, strategic weapons failures, space and satellite operations, aerospace, and antiterrorism. Also included are electronic copies of documents created using electronic mail and word processing and electronic systems maintained at combatant commands that feed into systems maintained at higher levels. Recordkeeping copies of such files as operations and readiness policies and reports, directives, lessons learned, crisis incident action books, emergency planning policies and procedures, and publications are proposed for permanent retention.

3. Department of Defense, Joint Staff and Combatant Commands (N1-218-00-7, 51 items, 33 temporary items). Records relating to logistics, supply services, and budget matters accumulated by the Joint Staff and combatant commands. Included are reports, correspondence, case files, background papers, drafts, transcripts, publications, minutes of meetings, and other records pertaining to such matters as routine logistics and mobilization activities, general budget and financial management, payroll, procurement, space management, travel, transportation, and safety and maintenance activities. Also included are electronic copies of documents created using electronic mail and word processing and electronic systems maintained at combatant commands that feed into systems maintained at higher levels. Recordkeeping copies of files relating to such matters as policies and procedures, oversight and assessments, and high-level budget activities are proposed for permanent retention.

4. Department of Defense, Joint Staff and Combatant Commands (N1-218-00-10, 61 items, 46 temporary items). Records relating to general administration and management accumulated by the Joint Staff and combatant commands. Included are such records as reports, correspondence, summaries, case files, background papers, drafts, transcripts, publications, and minutes of meetings. Files pertain to such matters as general office operations, standard operating procedures, the preparation of reports and plans, publications, forms management, investigations, audits and surveys, routine studies, agreements, and records management. Also included are electronic copies of documents created using electronic mail and word processing and electronic systems maintained at combatant commands that feed into systems maintained at higher levels. Recordkeeping copies of such files as indexes to permanent records, official studies, schedules of high officials, significant investigations, audiovisual records, administrative orders, and meeting/conference records are proposed for permanent retention.

5. Department of Defense, Joint Staff and Combatant Commands (N1-218-00-11, 44 items, 43 temporary items). Records relating to information technology accumulated by the Joint Staff and combatant commands. Included are reports, correspondence, directives, plans, memorandums, case files, background papers, drafts, transcripts, publications, minutes of meetings, and other files pertaining to such matters as the planning, procurement, testing, security, operation, and maintenance of information technology systems. Also included are electronic copies of documents created using electronic mail and word processing and electronic systems maintained at combatant commands that feed into systems maintained at higher levels. Recordkeeping copies of technical documentation relating to records scheduled for transfer to the National Archives are proposed for permanent retention.

6. Department of State, Bureau of Human Resources (N1-59-00-12, 12 items, 10 temporary items). Project working papers, legislative files, and labor management case files. Also included are electronic copies of documents created using electronic mail and word processing. Proposed for permanent retention are personnel policy historical files and reports relating to personnel policy and planning.

7. Department of State, Office of the Legal Advisor (N1-59-02-1, 2 items, 1 temporary item). Electronic copies of subject and country files of the Assistant Legal Advisor for Nonproliferation created using electronic mail and word processing. Recordkeeping copies of the files are proposed for permanent retention.

8. Environmental Protection Agency, Office of Prevention, Pollution, and Toxics (N1-412-01-5, 3 items, 2 temporary items). Paper records that relate to reporting information on chemicals or chemical mixtures under Section 8 of the Toxic Substances Control Act and have been microfilmed. Also included are electronic copies of documents created using electronic mail and word processing. Microfilm copies and paper records that have not been filmed, consisting of such documents as health studies, forms, and reports, are proposed for permanent retention.

9. Executive Office of the President, Office of National Drug Control Policy (N1-429-01-1, 43 items, 20 temporary items). Electronic copies of documents created using word processing. Proposed for permanent retention are the recordkeeping copies of such records as subject files of the director, deputy director, and other agency offices, the director's correspondence files and a related tracking system, and audio and video recordings.

10. Inter-American Foundation, Agency-wide (N1-454-02-1, 9 items, 7 temporary items). Records relating to activities of the Board of Directors and the President of the Foundation, including such files as copies of meeting minutes, correspondence, reports, public notices to Congress of grants under consideration by the Foundation, and electronic copies of documents created using electronic mail and word processing. Proposed for permanent retention are recordkeeping copies of minutes of meetings of the Board of Directors and Board of Directors policy files.

11. Inter-American Foundation, Office of the General Counsel (N1-454-02-2, 6 items, 6 temporary items). Records relating to activities of the Office of the General Counsel. Included are grant summaries, records of in-country legal assistance in support of grantees, and records of General Counsel participation in congressional budget hearings. Also included are electronic copies of documents created using electronic mail and word processing.

12. Inter-American Foundation, Office of Programs (N1-454-02-3, 3 items, 3 temporary items). Case files pertaining to grants awarded under the Foundation's Field Research Fellowship Program and U.S. Graduate Study Fellowship Program for Latin American and Caribbean Citizens. Also included are electronic copies of documents created using electronic mail and word processing.

13. Inter-American Foundation, Office of Budget and Financial Controls (N1-454-02-4, 4 items, 3 temporary items). Records relating to the administration of funding received from the Social Progress Trust Fund, including electronic copies of documents created using electronic mail and word processing. Proposed for permanent retention are recordkeeping copies of budget formulation and submission files.

14. Nuclear Regulatory Commission, Regional Offices (N1-431-00-20, 132 items, 96 temporary items). Electronic records in the Commission's Agencywide Document Access and Management System (ADAMS) accumulated by agency Regional Offices, including electronic copies of records created using office automation tools and of records used to create ADAMS portable document format files. Records proposed for disposal include electronic recordkeeping copies of records related to committees and conferences for which the agency is not the sponsor, enforcement case files that lack historical significance, fuel facilities docket case files, routine correspondence accumulated below the regional administrator level, operator licensing examination packages, licensee mismanagement files, nuclear material accountability worksheets, personnel exposure files, and radiation protection program records. Paper copies of these records were previously approved for disposal. Series proposed for permanent retention include recordkeeping copies of such files as emergency planning records, significant enforcement actions, selected fuel facilities docket case files, program correspondence accumulated at the regional administrator level, inspection and enforcement case files, and regulatory history files for proposed and final rulemaking.

15. Office of Personnel Management, Office of Administrative Law Judges (N1-478-02-2, 4 items, 4 temporary items). Electronic copies of administrative law judge qualifications files created using electronic mail and word processing. This schedule also increases the retention period for recordkeeping copies of these files, which were previously approved for disposal.

Dated: March 8, 2002.
Michael J. Kurtz,
Assistant Archivist for Record Services—Washington, DC.

[FR Doc. 02-6636 Filed 3-19-02; 8:45 am]

BILLING CODE 7515-01-U